DEPARTMENT OF ENERGY

National Nuclear Security Administration

Secretarial Determination of a National Security Purpose for the Sale or Transfer of Enriched Uranium

AGENCY: National Nuclear Security Administration, Department of Energy.

ACTION: Notice.

SUMMARY: On August 21, 2018, the Secretary of Energy issued a determination (“Secretarial Determination”) covering the transfer of low enriched uranium in support of the tritium production mission. The Secretarial Determination establishes the national security purpose of these transfers, therefore the transfers will be conducted under the USEC Privatization Act of 1996.

DATES: The Secretary of Energy signed the determination on August 21, 2018.

FOR FURTHER INFORMATION CONTACT: Ms. Audrey Beldio, NNSA Domestic Uranium Enrichment Program Manager, U.S. Department of Energy, 1000 Independence Avenue SW, Washington, DC 20585, telephone (202) 586-1963, or email audrey.beldio@nnsa.doe.gov.

SUPPLEMENTARY INFORMATION: Currently, the United States does not possess a fully domestic uranium enrichment capability. The U.S. uranium enrichment market consists of foreign enrichment technologies that cannot be used to meet national security requirements for enriched uranium.

Acknowledging that it will take time to develop enrichment technologies and allow for thorough analysis to inform an acquisition decision for producing unobligated LEU, NNSA's Domestic Uranium Enrichment strategy includes NNSA Defense Programs down-blending approximately 20 metric tons of HEU to LEU for use as fuel in tritium production reactors. The uranium will be transferred to the NNSA federal partner, the Tennessee Valley Authority (TVA) only for use as fuel in a reactor producing tritium and not for resale or retransfer. TVA will pay for the value of uranium to be received. Use of this material is compliant with long-standing U.S. policy and international commitments that require LEU used for defense purposes to be free of peaceful use restrictions (“unobligated”). TVA is responsible for preserving the unobligated LEU to be used as fuel in tritium production reactors.

The Department's transfers of uranium are conducted in accordance with its authority under the Atomic Energy Act of 1954, and consistent with other applicable law. These uranium transfers will be conducted under Section 3112(e)(2) of the USEC Privatization Act of 1996, which provides for transfers of enriched uranium to any person for national security purposes, as determined by the Secretary.

Signed in Washington, DC, on September 5, 2018.
Philip T. Calbos,
Acting Deputy Administrator for Defense Programs, National Nuclear Security Administration.

Appendix

Department of Energy

Set forth below is the full text of the Secretarial Determination:

BILLING CODE 6450-01-P

[FR Doc. 2018-19686 Filed 9-10-18; 8:45 am]

BILLING CODE 6450-01-C